FEDERAL MARITIME COMMISSION

Ocean Transportation Intermediary License Reissuances

Notice is hereby given that the following Ocean Transportation Intermediary licenses have been reissued by the Federal Maritime Commission pursuant to section 19 of the Shipping Act of 1984, as amended by the Ocean Shipping Reform Act of 1998 (46 U.S.C. app. 1718) and the regulations of the Commission pertaining to the licensing of Ocean Transportation Intermediaries, 46 CFR part 515.

License No. | Name/address | Date reissued
17096NF | Aero Costa International, Inc., 460 E. Carson Plaza Drive, #220, Carson, CA 90746 | December 25, 2002.
11289N | Cargo Marketing Services Limited dba Procon Express Line, The Old Bakery, One Shaw Lane, Lichfield, Staffordshire, WS13 7AG, United Kingdom | December 8, 2002.
17466N | Compass Shipping, Inc., 825 Empire Boulevard, Brooklyn, NY 11225 | November 1, 2002.
3508F | E & B International, Inc., 5353 E. Princess Anne Road, Suite A, Norfolk, VA 23502 | December 19, 2002.
16971N | Wil Can (USA) Group Inc., 167-10 South Conduit Avenue, Suite 210, Jamaica, NY 11434 | November 30, 2002.

Sandra L. Kusumoto,
Director, Bureau of Consumer Complaints and Licensing.

[FR Doc. 03-2810 Filed 2-5-03; 8:45 am]

BILLING CODE 6730-01-P